DEPARTMENT OF THE TREASURY

Submission for OMB Review; Comment Request

January 11, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before February 20, 2007 to be assured of consideration.

Internal Revenue Service (IRS)

OMB Number: 1545-1700.

Type of Review: Extension.

Title: Qualified Subchapter S Subsidiary Election.

Form: 8869.

Description: Effective for tax years beginning after December 31, 1996, Internal Revenue Code section 1361(b)(3) allows an S corporation to own a corporate subsidiary, but only if it is wholly owned. To do so, the parent S corporation must elect to treat the wholly owned subsidiary as a qualified subchapter S subsidiary (QSub). Form 8869 is used to make this election.

Respondents: Businesses and other for-profit institutions.

Estimated Total Burden Hours: 40,750 hours.

OMB Number: 1545-0016.

Type of Review: Revision.

Title: United States Additional Estate Tax Return.

Form: 706-A.

Description: Form 706-A is used by individuals to compute and pay the additional estate taxes due under Code section 2032A(c). IRS uses the information to determine that the taxes have been properly computed. The form is also used for the basis election of section 1016(c)(1).

Respondents: Individuals or Households.

Estimated Total Burden Hours: 1,433 hours.

OMB Number: 1545-1732.

Title: REG-105946-00 (Final) Mid-Contract Change in Taxpayer.

Type of Review: Extension.

Description: The information is needed by taxpayers who assume the obligation to account for the income from long-term contracts as the result of certain nontaxable transactions.

Respondents: Businesses and other for-profit institutions.

Estimated Total Burden Hours: 10,000 hours.

OMB Number: 1545-0236.

Title: Occupational Tax and Registration Return for Wagering.

Type of Review: Extension.

Form: 11-C.

Description: Form 11-C is used to register persons accepting wagers (IRC section 4412). IRS uses this form to register the respondent, collect the annual stamp tax (IRC section 4411), and to verify that the tax on wagers is reported on Form 730.

Respondents: Businesses or other for-profit institutions.

Estimated Total Burden Hours: 126,175 hour.

OMB Number: 1545-1299.

Title: IA-54-90 (Final) Settlement Funds.

Type of Review: Extension.

Description: The reporting requirements affect taxpayers that are qualified settlement funds; they will be required to file income tax returns, estimated income tax returns, and withholding tax returns. The information will facilitate taxpayer examinations.

Respondents: Businesses and other for-profit institutions.

Estimated Total Burden Hours: 3,542 hours.

OMB Number: 1545-0138.

Title: U.S. Departing Alien Income Tax Statement.

Type of Review: Extension.

Form: 2063.

Description: Form 2063 is used by a departing resident alien against whom a termination assessment has not been made, or a departing non-resident alien who has no taxable income from United States sources, to certify that they have satisfied all U.S. income tax obligations. The data is used by the IRS to certify that departing aliens have complied with U.S. income tax laws.

Respondents: Individuals or households.

Estimated Total Burden Hours: 17,049 hours.

OMB Number: 1545-2028.

Title: Fuel Cell Motor Vehicle Credit.

Type of Review: Extension.

Description: This information will be used to determine whether the vehicle for which the credit is claimed under 30B by a taxpayer is property that qualifies for the credit. The collection of information is required to obtain a benefit. The likely respondents are corporations and partnerships.

Respondents: Businesses and other for-profit institutions.

Estimated Total Burden Hours: 280 hours.

OMB Number: 1545-1702.

Title: Information Return for Transfers Associated With Certain Personal Benefit Contracts.

Type of Review: Extension.

Form: 8870.

Description: Section 170(c) charitable organizations or section 664(d) charitable remainder trusts that paid premiums after February 8, 1999, on certain “personal benefit contracts” must file Form 8870.

Respondents: Not-for-profit institutions.

Estimated Total Burden Hours: 74,200 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-639 Filed 1-17-07; 8:45 am]

BILLING CODE 4830-01-P